DEPARTMENT OF TRANSPORTATION

Surface Transportation Board

[STB Finance Docket No. 34990]

Moscow Camden and San Augustine Railroad LLC—Acquisition and Operation Exemption—Assets of Moscow, Camden & San Augustine Railroad

Moscow Camden and San Augustine Railroad LLC (MCSA), a noncarrier, has filed a notice of exemption under 49 CFR 1150.31 to acquire and operate the assets of a Class III rail carrier, Moscow, Camden & San Augustine Railroad, including a 6.9-mile line which runs between an International Paper Company (International Paper) integrated plywood plant and lumber mill complex at Camden, TX, and a Union Pacific Railroad Company line at Moscow, TX.

MCSA states that, as part of a December 21, 2006 agreement, Georgia-Pacific Wood Products South LLC (Georgia-Pacific South), a subsidiary of Georgia-Pacific Corporation (now Georgia-Pacific LLC) (Georgia-Pacific), has agreed to purchase International Paper's Camden complex, including the assets of Moscow, Camden & San Augustine Railroad. Prior to the closing of the transaction, Georgia-Pacific South will assign its right to acquire the assets that constitute the rail line to MCSA, which is currently expected to be formed as a Delaware limited liability company and will acquire the railroad-related assets at closing.

This transaction is related to STB Finance Docket No. 34991, Koch Industries, Inc.—Continuance in Control Exemption—Moscow Camden and San Augustine Railroad LLC, wherein Koch Industries, Inc., the ultimate parent of Georgia-Pacific, seeks to continue in control of MCSA upon its becoming a Class III rail carrier.

MCSA certifies that its projected revenues as a result of this transaction will not exceed those that would qualify it as a Class III rail carrier and will not exceed $5 million.

The earliest this transaction may be consummated is the March 2, 2007 effective date of the exemption (30 days after the exemption was filed).

If the verified notice contains false or misleading information, the exemption is void ab initio. Petitions to revoke the exemption under 49 U.S.C. 10502(d) may be filed at any time. The filing of a petition to revoke will not automatically stay the transaction. Petitions for stay must be filed no later than February 23, 2007 (at least 7 days before the exemption becomes effective).

An original and 10 copies of all pleadings, referring to STB Finance Docket No. 34990, must be filed with the Surface Transportation Board, 1925 K Street, NW., Washington, DC 20423-0001. In addition, a copy of each pleading must be served on David H. Coburn, 1330 Connecticut Ave., NW., Washington, DC 20036. Board decisions and notices are available on our Web site at http://www.stb.dot.gov.

Decided: February 6, 2007.
By the Board, David M. Konschnik, Director, Office of Proceedings.
Vernon A. Williams,
Secretary.

[FR Doc. E7-2434 Filed 2-15-07; 8:45 am]

BILLING CODE 4915-01-P